Title 3—

The President

Memorandum of June 21, 2021

Delegation of Certain Authorities and Functions Under Section 353 of the United States-Northern Triangle Enhanced Engagement Act

Memorandum for the Secretary of State

By the authority vested in me as President by the Constitution and the laws of the United States of America, including section 301 of title 3, United States Code, I hereby delegate to the Secretary of State all authorities and functions vested in the President by section 353 of the United States-Northern Triangle Enhanced Engagement Act (Subtitle F of Title III of Division FF of Public Law 116-260) (the “Act”).

Any reference herein to the Act related to the subject of this memorandum shall be deemed to include references to any hereafter-enacted provisions of law that are the same or substantially the same as such provisions.

You are authorized and directed to publish this memorandum in the Federal Register.

THE WHITE HOUSE,

Washington, June 21, 2021

[FR Doc. 2021-14072

Filed 6-29-21; 8:45 am]

Billing code 4710-10-P